DEPARTMENT OF JUSTICE

Notice of Lodging of Proposed Consent Decree Under the Clean Water Act

On February 5, 2024, the Department of Justice lodged a proposed consent decree with the United States District Court for the District of Massachusetts in United States and Commonwealth of Massachusetts v. City of Lowell, Massachusetts, 1:24-cv-10290 (D. Mass.).

The United States filed a complaint for injunctive relief and civil penalties under sections 309(b) and (d) of the Clean Water Act, 33 U.S.C. 1319(b) and (d), against Defendant, City of Lowell for: (1) unpermitted and illegal discharges from its wastewater collection system, without authorization under a National Pollutant Discharge Elimination System (“NPDES”) permit and in violation of section 301 of the Clean Water Act, 33 U.S.C. 1311; and (2) unpermitted and illegal discharges of pollutants from its Small Municipal Separate Storm Sewer System. The Commonwealth of Massachusetts has moved to file an Intervenor's Complaint alleging violations of the Clean Water Act, the Massachusetts Clean Waters Act, M.G.L. c. 21, sections 26-53, and the regulations promulgated thereunder, 314 C.M.R. sections 3.00, et seq., 7.00, et seq., and 12.00, et seq. Under the proposed Consent Decree among the parties, the City of Lowell must take measures necessary to achieve and maintain compliance with the Federal Clean Water Act, the Massachusetts Clean Waters Act, and the City's NPDES permit. These include measures to separate wastewater sewer pipes and stormwater pipes to prevent sewage discharges to the Merrimack and Concord Rivers and Beaver Brook from the combined pipes during rain events. Under the proposed Consent Decree, the City will also update and implement its Illicit Discharge Detection and Elimination program to detect and eliminate illicit connections from wastewater pipes or other sources of wastewater to the stormwater system. Finally, under the proposed settlement, the City will pay a $200,000 civil penalty for past noncompliance.

The publication of this notice opens a period for public comment on the proposed Consent Decree. Comments should be addressed to the Assistant Attorney General, Environment and Natural Resources Division, United States Department of Justice, and should refer to United States and Commonwealth of Massachusetts v. City of Lowell, Massachusetts, 1:24-cv-10290 (D. Mass.), D.J. Ref. No. 90-5-1-1-12515. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

Any comments submitted in writing may be filed by the United States in whole or in part on the public court docket without notice to the commenter.

During the public comment period, the proposed consent decree may be examined and downloaded at this Justice Department website: https://www.justice.gov/enrd/consent-decrees. If you require assistance accessing the proposed consent decree, you may request assistance by email or by mail to the addresses provided above for submitting comments.

Henry S. Friedman,
Assistant Section Chief, Environmental Enforcement Section, Environment and Natural Resources Division.

[FR Doc. 2024-02738 Filed 2-9-24; 8:45 am]

BILLING CODE 4410-15-P